DEPARTMENT OF THE INTERIOR

Bureau of Land Management

[UT090-1610-012J]

Notice of Availability of the Draft Resource Management Plan and Draft Environmental Impact Statement for the Monticello Field Office in San Juan County, Utah

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) hereby gives notice that the Monticello Draft Resource Management Plan and Draft Environmental Impact Statement (DRMP/DEIS) is available for a 90-day public review and comment period. This notice also meets requirements in 43 CFR 1610, 7-2(b) concerning potential Areas of Critical Environmental Concern (ACECs).

DATES: To ensure that your written comments on the DRMP/DEIS will be considered, you should send them to the BLM within 90 days following the date the Environmental Protection Agency publishes its notice of availability in the Federal Register. The BLM will announce public meetings and other public-involvement activities at least 15 days in advance through public notices, news releases, direct mailings, and posting on the project Web site at: www.blm.gov/ut/st/en/prog/planning.1.html. Public meetings will be held in Monticello, Moab, Blanding, Montezuma Creek, and Salt Lake City, UT; and in other locations, if warranted.

ADDRESSES: Address written comments to: RMP Comments, Monticello Field Office, Bureau of Land Management, PO Box 7, Monticello, Utah 84535. Comments may also be faxed to the Monticello Field Office at (435) 587-1518, or submitted electronically by e-mail to: UT_Monticello_RMP_Comments@blm.gov. Comments and information submitted on the DRMP/EIS, including names, e-mail addresses, and street addresses of respondents, will be available for public review and disclosure at the above address. The BLM will not accept anonymous comments. Before including your address, phone number, e-mail address, or other personal identifying information in your comment, you should be aware that your entire comment—including your personal identifying information—may be made publicly available at any time. While you can ask us in your comment to withhold your personal identifying information from public review, we cannot guarantee that we will be able to do so.

FOR FURTHER INFORMATION CONTACT: Gary Torres, Land Use Planner, Monticello BLM Field Office, PO Box 7, Monticello, Utah 84535, phone (435) 587-1524. To have your name added to the Monticello RMP mailing list, or to view and download the DRMP/DEIS in portable document format (PDF) go to the project Web site: http://www.blm.gov/ut/st/en/prog/planning.1.html. Copies of the DRMP/DEIS are also available at the BLM Monticello Field Office.

SUPPLEMENTARY INFORMATION: The DRMP/DEIS addresses public lands and resources managed by the Monticello Field Office in San Juan County, Utah. These lands and resources are currently managed under the San Juan Resource Management Plan (1991). The planning area includes approximately 1.8 million acres of BLM-administered surface lands and additional federally-owned minerals under Federal, state, tribal, and private lands in the area. Decisions in the Monticello RMP will only apply to BLM-administered public lands and federally-owned minerals.

Major issues considered in the DRMP/DEIS include oil and gas leasing, mining, range and livestock management, access and transportation, recreation and off-highway vehicle management, special status species, special designations (including ACECs and suitability of rivers for Congressional designation into the national Wild and Scenic Rivers System), and lands with wilderness characteristics.

The DRMP/DEIS proposes and analyzes five alternatives for future management of the public lands and resources in the planning area. The alternatives present different management balances between the various resources and uses.

The BLM analyzed five alternatives for the DRMP/DEIS:

• Alternative A (No Action): represents continuation of existing management under the current management goals, objectives and direction specified in the San Juan Resource Management Plan (1991).

• Alternative B: emphasizes protection of natural resource values.

• Alternative C (The BLM's Preferred Alternative): proposes balancing resource protection with commodity production.

• Alternative D: emphasizes commodity production.

• Alternative E: provides protection of natural resource values with emphasis on protection of non-WSA lands with wilderness characteristics.

As required by law, the DRMP/DEIS considers the designation and protection of ACECs. ACEC values and resource use limitations vary by ACEC, and the ACECs themselves vary by alternative. (Refer to the table below.)

Acres of Public Land To Be Managed as ACECs Under the Alternatives in the Monitcello DRMP/DEIS
ACEC Values and Use Limitations | Alt. A (no action) | Alt. B | Alt. C (preferred) | Alt. D | Alt. E
Alkali Ridge ACEC | 39,202 | 39,196 | 39,196 | 0 | 39,196
Values: Cultural.
Limitations: Closed to private and (or) commercial use of woodland products except for limited on-site collection of dead wood for campfires. Livestock use may be restricted if cultural resources are being impacted. No surface disturbing vegetation treatments. Any treatment must avoid cultural sites by sufficient margin as to have no impact.
Bridger Jack Mesa ACEC | 6,260 | 6,225 | 0 | 0 | 6,225
Values: Near-relict vegetation.
Limitations: Managed as Visual Resource Management (VRM) Class I. Open for mineral leasing subject to No Surface Occupancy (NSO) on the mesa top; available for geophysical work that does not impact the relict vegetation communities. Closed to the disposal of mineral materials. Open to locatable mineral entry with approved plan of operations, subject to stipulations regarding surface use of the mesa top, insofar as there is no adverse impact to vegetation communities. Excluded from livestock grazing, including grazing by saddle stock and pack animals allowed for access. Excluded from land treatments or other improvements, except for test plots and facilities necessary for study of the plant communities, and restoration/reclamation activities. Closed to Off Highway Vehicle (OHV) use. Closed to private and (or) commercial use of woodland products except for the limited on-site collection of dead wood for campfires.
Butler Wash North ACEC | 17,464 | 17,365 | 0 | 0 | 17,365
Values: Scenic.
Limitations: Managed as VRM Class I. Open for mineral leasing subject to NSO; however, the field manager would grant an exception to the NSO stipulations in the event it is determined through an EA, or EIS if necessary, with the adoption and use of appropriate mitigation measures, that the project would meet visual quality standards for the area. Closed to disposal of mineral materials. Retained in public ownership and withdrawn from entry. Closed to private and (or) commercial use of woodland products, except for limited on-site collection of dead wood.
Cedar Mesa ACEC | 295,336 | 306,743 | 0 | 0 | 306,743
Values: Cultural.
Limitations: Available for livestock use with special conditions to protect at-risk cultural resources. Closed to private and (or) commercial use of woodland products except for limited on-site collection of dead wood for campfires. Campfires limited to mesa tops and would be closed if there are impacts to cultural sites. Closed to dispersed camping. Limited number of recreation permits issued for day hikes and overnight camping as necessary to prevent cultural site damage from over visitation. Overnight campers must pack out their human waste.
Dark Canyon ACEC | 61,660 | 61,660 | 0 | 0 | 61,660
Values: Scenic, Cultural, Wildlife.
Limitations: Managed as VRM Class I. Closed to oil and gas leasing, geophysical work, and disposal of mineral materials. Retained in public ownership and classified as segregated from entry (secretarial withdrawal would be requested). Closed to private and (or) commercial use of woodland products except for limited on-site collection of dead wood for campfires on mesa tops. Campfires limited to mesa top with fire pan (no campfires in canyons). Human waste to be packed out. Excluded from livestock use except Fable Valley, where livestock trailing and emergency grazing (severe winter) would be allowed. Closed to OHV use. Improvements conditionally allowed for wildlife habitat, watershed, and vegetative treatments that meet VRM Class I management. Managed to limit recreation use if wildlife habitat or scenic values are being damaged. Subject to conditional fire suppression, with motorized suppression methods used only if necessary to protect life or property.
Hovenweep ACEC | 1,798 | 2,439 | 2,439 | 0 | 2,439
Values: Cultural, Special Wildlife Habitat.
Limitations: Cultural properties eligible for the National Register of Historic Places would be avoided as necessary to provide permanent protection. Closed to disposal of mineral materials. Available for livestock use but may be limited if cultural resources are impacted. No surface disturbing habitat, watershed, or vegetation treatments. Any treatment must avoid cultural sites by sufficient margin as to avoid adverse impact. Closed to private and (or) commercial use of woodland products, except for limited on-site collection of dead wood for campfires.
Indian Creek ACEC | 8,510 | 8,510 | 3,905 | 0 | 8,510
Values: Scenic.
Limitations: Managed as VRM Class I. Open for mineral leasing subject to NSO. Closed to disposal of mineral materials. Retained in public ownership and classified as segregated from entry (secretarial withdrawal would be requested). Available for geophysical work if VRM Class I can be met. Closed to private and (or) commercial use of woodland products including on-site collection of dead wood for campfires. Closed to OHV use. Dispersed camping not allowed in the Indian Creek Corridor. Camping allowed only in designated sites.
Lockhart Basin ACEC | 0 | 47,783 | 0 | 0 | 47,783
Values: Scenic.
Limitations: Managed as VRM Class I. Surface disturbing activities would be prohibited unless VRM Class I objectives can be met. This would apply to mineral leasing NSO decisions, and to geophysical work. Open for mineral leasing subject to NSO. Exemptions may be granted on a case-by-case basis if site-specific NEPA analysis determines that VRM Class I can be met. Surface disturbing activities would be prohibited. Available for geophysical work if VRM Class I can be met. Closed to disposal of mineral materials. Retained in public ownership and classified as segregated from entry (secretarial withdrawal would be requested). Closed to woodland product use except for limited on-site collection of dead wood for campfires.
Lavender Mesa ACEC | 649 | 649 | 649 | 0 | 649
Values: Relict-vegetation.
Limitations: Managed as VRM Class II. Non-surface disturbing vegetative treatments allowed to control invasive species and for rehabilitation of disturbed surfaces. Managed as NSO for oil and gas leasing. Open to locatable mineral entry with approved plan of operations (for the sides of the mesa, not the top), subject to stipulations protecting vegetation on the mesa top. No campfires allowed. Managed to limit recreation use if vegetation communities are being adversely impacted.
Scenic Highway ACEC | 79,017 | 0 | 0 | 0 | 0
Values: Scenic.
Limitations: Managed as VRM Class I with projects that meet these visual quality standards allowed. Open for mineral leasing subject to NSO with exceptions if VRM Class I objectives cannot be met.
Shay Canyon ACEC | 5488 | 119 | 119 | 0 | 119
Values: Cultural.
Limitations: Managed as VRM Class I. Managed as NSO for oil and gas, vegetation, watershed, or wildlife treatments/improvements. Grazing restricted to trailing only. With the exception of side canyons, hiking limited to designated trails. Closed to disposal of mineral materials. Closed to campfires. Closed to private or commercial use of woodland products including on-site collection of dead wood for campfires. Recreation use may be limited if cultural/paleontological resources are impacted. Closed to camping.
San Juan River ACEC | 0 | 7,590 | 7,590 | 0 | 7,590
Values: Scenic, Cultural, Wildlife, and Natural Systems.
Limitations: Managed as VRM Classes I, II, and III. Open to oil and gas leasing subject to NSO. Closed to private and (or) commercial use of woodland products except for limited on-site collection of dead wood for campfires; woodland use within the floodplain would be limited to collection of driftwood for campfires. Closed to mineral material disposal. Retained in public ownership and recommended for withdrawal from mineral entry. Managed to limit recreation use if wildlife values are being adversely impacted. Restricted recreational uses to protect cultural, wildlife, and natural processes. This would include closed areas for camping, designated access trails to cultural sites, and prohibiting ropes and other climbing aids for access to cultural sites and nesting raptors.
Valley of the Gods ACEC | 36,800 | 22,863 | 22,863 | 0 | 22,863
Values: Scenic.
Limitations: Managed as VRM Class I. Closed to mineral leasing and disposal of mineral materials. Retained in public ownership but recommended for withdrawal from mineral entry. No campfires allowed. Closed to private and (or) commercial use of woodland products.
Total | 552,184 | 521,142 | 76,761 | 0 | 521,142

Dated: April 26, 2007.
Jeff Rawson,
Utah Associate State Director.

Editorial Note: This document was received at the Office of the Federal Register on October 29, 2007.

[FR Doc. E7-21518 Filed 11-1-07; 8:45 am]

BILLING CODE 4310-DK-P